DEPARTMENT OF COMMERCE

Economic Development Administration

Notice of Petitions by Firms for Determination of Eligibility To Apply for Trade Adjustment Assistance

AGENCY: Economic Development Administration, Department of Commerce.

ACTION: Notice and opportunity for public comment.

Pursuant to Section 251 of the Trade Act of 1974, as amended (19 U.S.C. 2341 et seq.), the Economic Development Administration (EDA) has received petitions for certification of eligibility to apply for Trade Adjustment Assistance from the firms listed below. Accordingly, EDA has initiated investigations to determine whether increased imports into the United States of articles like or directly competitive with those produced by each of these firms contributed importantly to the total or partial separation of the firm's workers, or threat thereof, and to a decrease in sales or production of each petitioning firm.

List of Petitions Received by EDA for Certification of Eligibility to Apply for Trade Adjustment Assistance 12/10/2010 Through 12/20/2010
Firm name | Address | Date accepted for investigation | Products
Demmer Investments I, Inc. dba Intrex Aerospace | 1815 Boxelder Street, Louisville, CO 80027 | 12/13/2010 | The firm manufactures mountings, fittings, and other machined metal components for aerospace applications.
Foam Fair Industries, Inc | PO Box 304, 3 Merion Terrace, Aldan, PA 19018 | 12/20/2010 | The firm manufactures custom packaging kits, gaskets, seals, sheets, blocks, etc., of all types of foam materials.
Gulf Fish, Inc. | 5885 Highway 311, Houma, LA 70360 | 12/16/2010 | The firm peels, sizes, and freezes shrimp for human consumption.
Liberty Safe and Security Products, Inc | 1199 West Utah Avenue, Payson, UT 84651 | 12/15/2010 | The firm manufactures fabricated metal products, specializing in lock sets, drawers, vaults and safes.
Photo Stencil, LLC. | 4725 Centennial Boulevard, Colorado Springs, CO 80919 | 12/20/2010 | The firm manufactures electronic components using chemical etching, laser cutting, and electroforming processes.
Platinum 1934, Inc. dba Princess Linens | 6899 Peachtree Industrial Blvd., Suite G, Norcross, GA 30092 | 12/16/2010 | The firm manufactures children's clothing, generally made of cotton.
Topflight Corporation | 277 Commerce Drive, Glen Rock, PA 17327 | 12/13/2010 | The firm manufactures pressure sensitive labels, shrink sleeves, converted parts, and conductive printing.

Any party having a substantial interest in these proceedings may request a public hearing on the matter. A written request for a hearing must be submitted to the Trade Adjustment Assistance for Firms Division, Room 7106, Economic Development Administration, U.S. Department of Commerce, Washington, DC 20230, no later than ten (10) calendar days following publication of this notice.

Please follow the requirements set forth in EDA's regulations at 13 CFR 315.9 for procedures to request a public hearing. The Catalog of Federal Domestic Assistance official number and title for the program under which these petitions are submitted is 11.313, Trade Adjustment Assistance for Firms.

Dated: December 20, 2010.
Bryan Borlik,
Program Director.

[FR Doc. 2010-32530 Filed 12-27-10; 8:45 am]

BILLING CODE 3510-24-P